MERIT SYSTEMS PROTECTION BOARD

Privacy Act of 1974; System of Records

AGENCY: Merit Systems Protection Board.

ACTION: Rescindment of a system of records.

SUMMARY: In accordance with the Privacy Act of 1974, the U.S. Merit Systems Protection Board (MSPB) proposes to rescind a government-wide system of records titled “MSPB/GOVT—1, Appeals and Case Records.” This system of records includes information that MSPB collects, maintains, and uses to perform MSPB's statutory functions. MSPB is separately and simultaneously proposing a new system of records titled “MSPB—1, Appeals and Case Records” that will cover this information.

DATES: Please submit comments on or before September 25, 2025. This rescindment of government-wide system “MSPB/GOVT—1, Appeals and Case Records” is effective November 24, 2025.

ADDRESSES: You may submit written comments to the Office of the Clerk of the Board by email to privacy@mspb.gov or by mail to Clerk of the Board, U.S. Merit Systems Protection Board, 1615 M Street NW, Washington, DC 20419. All comments must reference “MSPB/GOVT—1, Appeals and Case Records SORN.” Regardless of the method used for submitting comments or material, all submissions will be posted publicly, without change, to MSPB's website (https://www.mspb.gov) and will include any personal information you provide, such as your name, address, phone number, email address, or any other personally identifying information in your comment or materials.

FOR FURTHER INFORMATION CONTACT: Gina K. Grippando, Clerk of the Board, Office of the Clerk of the Board, 1615 M Street NW, Washington, DC 20419; (202) 653-7200; privacy@mspb.gov. Please include “MSPB/GOVT—1, Appeals and Case Records SORN” with your question(s).

SUPPLEMENTARY INFORMATION: In accordance with the Privacy Act of 1974, 5 U.S.C. 552a, (Privacy Act), MSPB proposes to rescind the government-wide system of records titled “MSPB/GOVT—1, Appeals and Case Records.” This system of records includes information that MSPB collects, maintains, and uses to perform MSPB's statutory functions to adjudicate appeals and other matters arising under MSPB's appellate and original jurisdiction pursuant to 5 U.S.C. 7701(a) and 5 U.S.C. 1204 (e.g., requests for disciplinary action or stays filed by the Special Counsel), and to support other statutory functions of MSPB, such as studies of the civil service under 5 U.S.C. 1204(a)(3), review of regulations of the Office of Personnel Management (OPM) under 5 U.S.C. 1204(f), and reporting under 5 U.S.C. 1206. MSPB is issuing this notice of its intent to rescind the current government-wide system of records. A separate notice proposing to establish a new internal system of records that will cover the same information, “MSPB—1, Appeals and Case Records,” is published elsewhere in this issue of the Federal Register. During the previous amendment process of the current government-wide system of records, it was determined that MSPB/GOVT—1 does not strictly meet the definition of a government-wide system because no agency keeps these records under the direction of MSPB. As such, MSPB/GOVT—1 is rescinded and removed from the government-wide category of record systems.

Once MSPB/GOVT—1 is removed from its present grouping among government-wide systems and is replaced with the new internal system, MSPB—1, agencies previously relying on MSPB/GOVT—1 will have to publish any new or revised systems notices because of this rescindment. MSPB's e-Appeal System exists for the purpose of facilitating the adjudication process while an appeal is before MSPB and as a location for the new internal system, MSPB—1; agencies should not rely on the e-Appeal System as the location for any new or revised system established for the agency's own use.

The Privacy Act embodies fair information practice principles in a statutory framework governing how Federal agencies collect, maintain, use, and disseminate individuals’ records. The Privacy Act applies to records about individuals that are maintained in a “system of records.” A system of records is a group of any records under the control of an agency from which information is retrieved by the name of an individual or by some identifying number, symbol, or other identifying particular assigned to the individual. The Privacy Act defines an individual as a United States citizen or lawful permanent resident.

Individuals may request access to their own records that are maintained in a system of records in the possession or under the control of MSPB by complying with MSPB's Privacy Act regulations at 5 CFR part 1205, and following the procedures outlined in the Records Access, Contesting Record, and Notification Procedures sections of this notice. The Privacy Act requires each agency to publish in the Federal Register a description denoting the existence and character of each system of records that the agency maintains and the routine uses of each system. In accordance with the Privacy Act, 5 U.S.C. 552a(r), and Office of Management and Budget (OMB) Circular A-108, “Federal Agency Responsibilities for Review, Reporting, and Publication under the Privacy Act” (Dec. 2016), MSPB has submitted a report of this rescindment of a system of records to OMB and Congress.

System Name and Number:

MSPB/GOVT—1, Appeals and Case Records.

History:

MSPB/GOVT—1, Appeals and Case Records, 77 FR 65206 (October 25, 2012).

Gina K. Grippando,
Clerk of the Board.

[FR Doc. 2025-16313 Filed 8-25-25; 8:45 am]

BILLING CODE 7400-01-P